NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 12, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 837-3635. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-02-21, 4 items, 2 temporary items). Records relating to notification rosters for continuity of operations emergency relocation groups. Included are files on contact information, member responsibilities, and relocation assignments. Also included are electronic copies of documents created using electronic mail and word processing. Recordkeeping copies of emergency plans and reports are proposed for permanent retention. This schedule authorizes the agency to apply the proposed disposition instructions to any recordkeeping medium.

2. Department of the Army, Agency-wide (N1-AU-02-22, 2 items, 2 temporary items). General correspondence, including comments provided to other offices on their issuances, requests for information and replies, reference copies of records, informal reports, recommendations and suggestions, work control records, and other records of a general, routine, and administrative nature. Also included are electronic copies of documents created using electronic mail and word processing. This schedule authorizes the agency to apply the proposed disposition instructions to any recordkeeping medium.

3. Department of the Army, Agency-wide (N1-AU-02-23, 5 items, 5 temporary items). Records relating to radiation safety. Included are training attendance records and test results, source accounting records, instrument and source calibration files, and routine reports. Also included are electronic copies of documents created using electronic mail and word processing. This schedule authorizes the agency to apply the proposed disposition instructions to any recordkeeping medium.

4. Department of Defense, Defense Intelligence Agency (N1-373-02-2, 7 items, 7 temporary items). Records relating to the use of International Merchants Purchase Authority Card (IMPAC) credit cards, including authorization letters, reports, account records, and electronic copies of records created using electronic mail and word processing.

5. Department of Health and Human Services, Food and Drug Administration (N1-88-02-1, 14 items, 14 temporary items). Records of the Center for Devices and Radiological Health accumulated in connection with the Medical Product Surveillance System Pilot. Included are such records as paper source documents, electronic data, and output reports relating to injuries caused by medical devices and to malfunctions of such devices. Also included are files relating to pilot administration and electronic copies of records created using electronic mail and word processing. Paper copies of these files were previously approved for disposal.

6. Department of Health and Human Services, Office of the General Counsel (N1-468-02-1, 3 items, 3 temporary items). Case files pertaining to litigation that does not establish a precedent. Also included are electronic copies of records created using electronic mail and word processing relating to litigation cases.

7. Department of the Interior, U.S. Geological Survey (N1-57-02-2, 227 items, 225 temporary items). Records relating to information resources management, administrative support matters, personnel management, equal employment opportunity, and payroll. Included are records relating to such matters as the agency web site, foreign and reimbursable travel, self-service stores, file plans, library operations, network operations, telecommunications, audits, personnel recruitment, position classification, training, time and attendance, and awards. Also included are reading and chronological files, administrative databases, and electronic copies of records created using electronic mail, spreadsheet, and word processing applications. Proposed for permanent retention are recordkeeping copies of records management filing systems records and regulations case files.

8. Environmental Protection Agency, Office of Inspector General (N1-412-02-1, 2 items, 2 temporary items). Reports of internal reviews of Office of Inspector General (OIG) procedures or programs for economy, efficiency, and compliance with OIG policies and professional standards. Also included are electronic copies of records created using electronic mail and word processing.

9. Environmental Protection Agency, Office of Inspector General (N1-412-02-2, 2 items, 2 temporary items). Records relating to Hotline complaints, including forms, correspondence, synopses of cases, and reports. Also included are electronic copies of records created using electronic mail and word processing.

10. Federal Energy Regulatory Commission, Agency-wide (N1-138-02-1, 3 items, 3 temporary items). Records relating to interpretations and advisory opinions. Included are correspondence providing informal advice, interpretations and/or opinions presented by Commission staff, and electronic copies of documents created using electronic mail and word processing. Official opinions were previously approved for permanent retention.

11. National Archives and Records Administration (N1-64-02-10, 5 items, 4 temporary items). Administrative records and work papers relating to a records management initiative project. Also included are electronic copies of records created using electronic mail and word processing. Proposed for permanent retention are recordkeeping copies of project program records.

12. Office of Personnel Management, Office of the Chief Information Officer (N1-478-02-4, 12 items, 9 temporary items). Records relating to agency oversight of Federal Executive Boards, including administrative guidance, project files, and the Federal Executive Board web site. Also included are electronic copies of records created using electronic mail and word processing. Proposed for permanent retention are recordkeeping copies of historical files, annual reports, and policy development project files.

Dated: June 20, 2002.
Michael J. Kurtz,
Assistant Archivist for Record Services—Washington, DC.

[FR Doc. 02-16159 Filed 6-26-02; 8:45 am]

BILLING CODE 7515-01-P